DEPARTMENT OF AGRICULTURE

Animal and Plant Health Inspection Service

7 CFR Part 319

[Docket No. APHIS-2006-0133]

RIN 0579-AC20

Importation of Unshu Oranges From the Republic of Korea Into Alaska

AGENCY: Animal and Plant Health Inspection Service, USDA.

ACTION: Proposed rule.

SUMMARY: We are proposing to amend the regulations governing the importation of citrus fruit to allow fresh Unshu oranges from the Republic of Korea to be imported into the State of Alaska under certain conditions. As a condition of entry, the oranges would have to be prepared for shipping using packinghouse procedures that include culling of damaged or diseased fruit and washing in a water bath. In addition, the oranges would have to be accompanied by a phytosanitary certificate with an additional declaration stating that the oranges were inspected and found free from Xanthomonas axonopodis pv. citri and Unaspis yanonensis. The individual cartons or boxes in which the Unshu oranges are shipped would also have to be stamped or printed with a statement restricting their importation and distribution to the State of Alaska. This action would allow for the importation of Unshu oranges from the Republic of Korea into Alaska while continuing to provide protection against the introduction of quarantine pests.

DATES: We will consider all comments that we receive on or before February 2, 2007.

ADDRESSES: You may submit comments by either of the following methods:

• Federal eRulemaking Portal: Go to http://www.regulations.gov, select “Animal and Plant Health Inspection Service” from the agency drop-down menu, then click “Submit.” In the Docket ID column, select APHIS-2006-0133 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0133, Regulatory Analysis and Development, PPD, APHIS, Station 3A-03.8, 4700 River Road Unit 118, Riverdale, MD 20737-1238. Please state that your comment refers to Docket No. APHIS-2006-0133.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Alex Belano, Import Specialist, Commodity Import Analysis and Operations, Plant Health Programs, PPQ, APHIS, 4700 River Road Unit 133, Riverdale, MD 20737-1231; (301) 734-8765.

SUPPLEMENTARY INFORMATION:

Background

Citrus canker is a disease that affects citrus and is caused by the infectious bacterium Xanthomonas axonopodis (also known as Xanthomonas campestris pv. citri (Hasse) Dye and Xanthomonas citri). Currently, the regulations in 7 CFR 319.28 (referred to below as the regulations) allow the importation of Unshu oranges (Citrus reticulata Blanco var. unshu Swingle) from certain areas in the Republic of Korea (South Korea) into certain areas of the United States under a permit and after the specified safeguards of a preclearance program have been met to prevent the introduction of citrus canker. However, the importation of Unshu oranges from South Korea was administratively suspended in 2002 due to the increased number of interceptions of the causal agent of citrus canker at various packinghouses in South Korea.

In 2005, the national plant protection organization (NPPO) of South Korea requested that the Animal and Plant Health Inspection Service (APHIS) allow the shipment of Unshu oranges into the State of Alaska until the pest risk of citrus canker from South Korea could be adequately mitigated for the rest of the United States. As part of our evaluation of South Korea's request, we prepared a pest risk assessment (PRA) and a risk management document. Copies of the PRA and risk management document may be obtained from the person listed under FOR FURTHER INFORMATION CONTACT or viewed on the Regulations.gov Web site (see ADDRESSES above for instructions for accessing Regulations.gov).

The PRA, titled “A Qualitative Pest Risk Analysis for the Importation of Fresh Unshu Orange Fruit (Citrus reticulata Blanco var. unshu Swingle) from the Republic of Korea into Alaska” (May 2006), evaluates the risks associated with the importation of Unshu oranges into Alaska from South Korea. The PRA and supporting documents identified 45 pests of quarantine significance associated with Unshu oranges in South Korea. However, the assessment further determined that only 2 of the 45 quarantine significant pests identified—citrus canker and the arrowhead scale Unaspis yanonensis Kuwana—may be reasonably expected to follow the pathway of Unshu orange shipments from South Korea. The other 43 quarantine pests have the potential to be harmful if introduced into the United States, but are not likely to follow the import pathway and therefore, were not analyzed further.

Citrus canker is present in the State of Florida and occurs in Asia, Africa, Central America, the Caribbean, South America, and Oceania, and the D-strain has been reported in Mexico. It has the potential to establish itself in Plant Hardiness Zones 8 to 10. However, those zones do not occur in Alaska, so the bacterium would be unable to become established in that State. In addition, hosts of the causal agent of citrus canker, X. axonopodis, do not occur in Alaska. Symptomatic citrus canker diseased fruit are easily identified by the necrotic lesions on the rind of the fruit, so most infected fruit would be culled during post-harvest processing or detected through post-harvest inspection.

U. yanonensis is a predominantly Asian species of scale insect that prefers warm, temperate climates that correspond to at least four Plant Hardiness Zones (zones 8 to 11) within the United States. Host plants grow in North America in Plant Hardiness Zones 5 to 10. However, because those zones do not occur in Alaska and because hosts of U. yanonensis do not occur in Alaska, it is unlikely that this insect would be able to establish itself within the State. Although U. yanonensis is small, careful inspection for the mobile stages of this insect by inspectors can detect it as proven by the high number of interceptions of this pest from many countries and on many commodities.

Because of the lack of host material and the unsuitable climate for these pests in Alaska, the PRA concluded that the risk of establishment of these pests in Alaska is low. APHIS has determined that measures beyond standard port of entry inspection are required to mitigate the risk posed by the two plant pests. Therefore, we are proposing to require that the individual cartons or boxes in which the Unshu oranges are shipped be stamped or printed with a statement specifying that “These oranges may not be shipped to any State other than Alaska.” Based on APHIS' past experience with similar programs for limited distribution, we have concluded that it is highly unlikely that whole shipments or containers of Unshu oranges from South Korea would be moved from Alaska into other areas of the United States. Since 1995, an estimated 24 million South Korean Unshu oranges have been shipped to the United States. In that time, only one shipment of Unshu oranges was mistakenly redirected to a citrus-producing State; that shipment was immediately redirected to a non-citrus-producing State.

We are also proposing to require that the Unshu oranges be prepared for shipping using packinghouse procedures that include culling damaged or diseased fruit and washing in a water bath. While the water bath is unlikely to directly kill either X. axonopodis or U. yanonensis, washing fruits may help to remove any hitchhiking pests. We would also require that each shipment of Unshu oranges be accompanied by a phytosanitary certificate from the NPPO of South Korea with an additional declaration stating that the oranges were inspected and are considered to be free from X. axonopodis pv. citri. and U. yanonensis. Specifically listing the pests on the additional declaration would also serve to alert APHIS inspectors at the point of entry to the specific pests of concern. As with current imports of Unshu oranges from Japan, the importation of Unshu oranges from South Korea into Alaska will require a permit.

We note that producers in South Korea employ a systems approach that includes additional mitigation measures. These measures include a field pest control program involving twice-yearly chemical sprays to control citrus canker, and cultural practices such as tree thinning, pruning of dead branches, and removal of injured or symptomatic fruits. These measures, while not part of the requirements proposed in this document, are routinely applied in the Unshu orange production areas and help to minimize the expression of citrus canker and the presence of symptomatic fruit in the groves during the growing season.

We have determined that these proposed measures would prevent the introduction of plant pests into the United States. The proposed conditions described above for the importation of Unshu oranges from South Korea into Alaska would be added to the citrus fruit regulations in § 319.28 as a new paragraph (c). This proposed rule, if implemented, would not affect the provisions of § 319.28(b) regarding the importation of Unshu oranges from Cheju Island, South Korea, into any area of the United States except American Samoa, Arizona, California, Florida, Hawaii, Louisiana, the Northern Mariana Islands, Puerto Rico, Texas, and the U.S. Virgin Islands. Those provisions will remain administratively suspended.

Executive Order 12866 and Regulatory Flexibility Act

This proposed rule has been reviewed under Executive Order 12866. The rule has been determined to be not significant for the purposes of Executive Order 12866 and, therefore, has not been reviewed by the Office of Management and Budget.

The United States is not a commercial producer of Unshu oranges (Citrus reticulata var. unshui). The United States does produce other mandarin varieties of Citrus reticulata, such as tangerines and Satsuma mandarins. Effects of the proposed rule on U.S. entities would depend on (1) the substitutability in Alaska of Unshu oranges for these other mandarin varieties, and (2) Alaska's share of the U.S. supply of the other mandarin varieties. We address these overriding issues before discussing small entities that may be affected.

Unshu orange prices are higher than the prices of U.S.-grown mandarin varieties, indicating that they are not close substitutes. Retail prices of Unshu oranges are approximately $1.20 per pound, whereas other mandarin varieties, such as Satsuma, range from $0.60 to $1 per pound depending on the time of year.¹

¹ Information on retail prices of Unshu oranges provided by Jerry Kraft of The Oppenheimer Group, the sole importer of Unshu oranges from Japan.

Regarding the second issue, only mandarin varieties marketed in Alaska could be directly affected by the proposed rule. We do not know the quantities of these varieties consumed in Alaska, but can reasonably assume the amounts to be relatively small compared to consumption in the rest of the United States. In addition, Unshu oranges are imported only 2 weeks of the year, with a shipping season beginning in mid-to late November or early December. On top of Unshu oranges and U.S.-grown mandarin varieties not being close substitutes and the relatively short shipping season, the relative small size of the Alaska market for U.S. producers would also tend to minimize possible effects of the rule for them.

Clearly, the effects of the proposed rule with respect to Alaska's broadly defined demand for all mandarin varieties are most likely to be very limited. Rather, we expect reestablished imports from Korea to compete for a share of Alaska's Unshu orange market, with the main effects being on imports into Alaska from Japan.

Prior to the administrative suspension in 2002, Korea and Japan were principal suppliers of Unshu oranges to the United States. It is estimated that Alaska consumes approximately 30 percent of the Unshu oranges imported from Japan. Quantities of Unshu oranges imported from Korea and Japan, 1995 to 2005, are shown in table 1.

Table 1.—Unshu Orange Imports by the United States From Korea and Japan, 1995-2005
Year | Korea | Japan
| Metric tons
1995 | 50 | 231
1996 | 220 | 160
1997 | 1,190 | 143
1998 | 40 | 223
1999 | 380 | 342
2000 | 240 | 106
2001 | 1,434 | 291
2002 | 1,601 | (¹)
2003 |  | 275
2004 |  | 271
2005 |  | 256
Source: USDA, APHIS, International Services.
¹ In 2002, we amended the regulations to allow Unshu oranges from Honshu Island, Japan, to be imported into the previously prohibited citrus-producing States of Arizona, California, Florida, Hawaii, Louisiana, and Texas. That same rule imposed a fumigation requirement for all Unshu oranges from Honshu Island, which seriously curtailed the market for that fruit in non-citrus producing States. As a result, there were no exports of Unshu oranges from Japan to the United States in 2002. We subsequently amended the regulations to apply the fumigation requirement only to fruit bound for citrus-producing States, and exports resumed in 2003.

Unshu orange imports from Japan between 1995 and 2005 averaged 238 metric tons per year.² Average imports of Unshu oranges from Korea between 1995 and 2002 were 644 metric tons per year, with significant year-to-year fluctuations and the average for 2001 and 2002 jumping to 1,518 metric tons. Imports of Unshu oranges from Japan have maintained a more steady supply, even in the more recent years during which Unshu oranges from Korea have been administratively suspended. From this data, it is not apparent that Korean supplies would significantly displace Unshu orange imports from Japan.

² This average does not include 2002, since it is likely that Japan would have exported Unshu oranges to the United States in that year if the fumigation requirement described under Table 1 had not been in place.

According to the pest risk assessment prepared for this rulemaking, the quantity of Unshu oranges that would be imported from Korea into Alaska each year is estimated to be between 200 and 2,000 metric tons (440,925 and 4,409,245 pounds), based on projected imports of between 10 and 100 standard 40-foot containers.³ The lower end of this range of imports would be comparable to recent import levels from Japan. Based upon the past shipments detailed in Table 1, we anticipate that imports of Unshu oranges from Korea would not exceed 75 containers (1,500 metric tons) per annum. The historical import data detailed in Table 1 suggest that Korean supplies would not significantly displace Japanese Unshu oranges on the Alaskan market.

³ USDA, APHIS, PPQ-CHPST, “A Qualitative Pest Risk Analysis for the Importation of Fresh Unshu Orange Fruit (Citrus reticulate Blanco var. unshu Swingle) from the Republic of Korea,” May 25, 2006, pg 33.

Our expectation is that the proposed rule would have little effect on U.S. producers of mandarin varieties such as tangerines and Satsumas. Any impact for these producers would be small, given that the various mandarin varieties do not appear to be close substitutes for Unshu oranges. Moreover, only sales to Alaska would be affected. However, recognizing that our information for determining possible effects of the proposed rule is incomplete, we present here data on U.S. tangerine trade and production.

The United States is a net importer of mandarins (including Satsumas and tangerines). In 2005, the United States imported 209.4 million pounds of mandarins (including Satsumas and tangerines) with approximately 91 percent arriving from Spain. In that same year, the United States exported approximately 48.1 million pounds of mandarins (including Satsumas and tangerines). Canada is the largest importer of U.S. fresh mandarins, accounting for 52 percent of U.S. exports. The second and third largest importers of U.S. mandarins are South Korea and Japan, accounting for approximately 38 and 6 percent of exports, respectively.⁴ U.S. imports of tangerines experienced an average increase of 17.8 percent annually over the last decade while exports have increased an average of 5.9 percent.⁵ Domestic production accounted for approximately 80 percent of domestic fresh consumption in 2005.⁶ The United States relies on imports of mandarins to supplement domestic production in satisfying domestic demand. Fresh utilization of U.S. mandarin and tangerine production only accounts, on average, for 70 percent of total utilized production annually.⁷ U.S. grower revenue from fresh tangerine production in 2004-05 was approximately $107.4 million.⁸

⁴ Source: Global Trade Atlas.

⁵ Source: USDA, FAS, PS&D Online. “Fresh Tangerines: Production, Supply and Distribution in Selected Countries,” http://www.fas.usda.gov/psdonline/psdDownload.aspx.

⁶ The proportion of domestic fresh consumption attributed to U.S. production is production less exports and processed utilization. Data Source: USDA ERS Briefing Room, Fruit and Tree Nut Yearbook, 2005.

⁷ USDA, ERS Briefing Room, Fruit and Tree Nut Yearbook, 2005.

⁸ Florida Agricultural Statistic Service (FASS), National Agricultural Statistics Service (NASS), USDA, “Citrus Summary 2004-05,” February 2006.

U.S. tangerine production, imports, and domestic supplies are shown on table 2. Net imports were 20 percent of domestic supply in 2004 to 2005.

Table 2.—U.S. Fresh Tangerine Production and Importation, Seasons 1999-00 Through 2004-05
Year | Production ᵃ | Net imports Gb | Supply Gc
| Metric tons
1999-00 | 298,464 | 68,185 | 366,649
2000-01 | 266,712 | 85,728 | 352,440
2001-02 | 296,649 | 37,261 | 333,910
2002-03 | 289,392 | 69,164 | 358,556
2003-04 | 295,742 | 72,753 | 368,495
2004-05 | 254,919 | 63,944 | 318,863
Data Source: USDA/ERS Briefing Room, Fruit and Tree Nut Yearbook, 2005.
ᵃ Excludes processed fruit.
ᵇ Net imports are imports minus exports.
ᶜ U.S. production (excluding processed utilization) plus net imports.

The small business size standard for tangerine groves, as identified by the Small Business Administration (SBA) based upon the North American Industry Classification System (NAICS) code 111320, is $750,000 or less in annual receipts.⁹

⁹ Based upon 2002 Census of Agriculture, State Data and the “Small Business Size Standards by NAICS Industry,” Code of Federal Regulations, Title 13, Chapter 1.

While available data do not provide the size distribution of U.S. tangerine farms by annual receipts, it is reasonable to assume that the majority of the operations are small businesses by SBA standards.¹⁰ According to the 2002 Census of Agriculture data, there were a total of 1,731 tangerine operations in the United States in 2002.¹¹ It is estimated that approximately 93 percent of all citrus-producing farms had annual sales in 2002 of $500,000 or less.

¹⁰ Based upon 2002 Census of Agriculture, State Data.

¹¹ The number of tangerine farms in the United States, as reported by the 2002 Census of Agriculture, includes operations that produced tangerines for processed utilization.

If Unshu oranges and U.S.-grown mandarin varieties were close substitutes, then U.S. entities could be affected to the extent that Unshu orange imports from Korea would displace sales in Alaska of the U.S.-grown mandarin varieties. Small entities would be affected, since they comprise a substantial number of the producers of mandarin varieties, as indicated by the data on tangerine operations. However, even if all Unshu orange imports from Korea were to directly replace consumption of U.S.-grown tangerines in Alaska, the effect on U.S. producers would be very minor. Under such a scenario, annual imports of Unshu oranges from Korea of 2,000 metric tons (the upper limit of the projected range of imports), would displace less than 1 percent of fresh tangerines produced by U.S. operations in 2004-05. We emphasize that even a small impact for U.S. producers such as this is highly unlikely.

We expect that any product displacement that may occur as a result of the proposed changes would be borne by other foreign suppliers of Unshu oranges, in particular Japan's exporters. However, we do not expect any significant product displacement as a result of Korean supplies. Alaska's Unshu orange consumers may benefit to the extent that the competition results in price declines. Based on the information we have at this time, we expect the benefits of allowing the importation of Unshu oranges from South Korea into Alaska would outweigh any expected costs to domestic small entities. We welcome public comment that would improve our understanding of possible effects of the proposed rule for U.S. small entities.

An alternative to this proposed rule would be to continue with the 2002 administrative suspension of the importation of Unshu oranges from Korea into all parts of the United States, including Alaska. Continuing the suspension of Korean Unshu orange imports into Alaska is not a satisfactory alternative to the proposed rule. Specified mitigation measures would ensure a low risk of introduction of citrus canker and Diaspidad scale into the United States. Resumption of imports would reestablish competition with Japanese suppliers, benefitting U.S. consumers but with little if any expected effect on U.S. producers.

Under these circumstances, the Administrator of the Animal and Plant Health Inspection Service has determined that this action would not have a significant economic impact on a substantial number of small entities.

Executive Order 12988

This proposed rule would allow fresh Unshu oranges to be imported into the United States from South Korea. If this proposed rule is adopted, State and local laws and regulations regarding fresh Unshu oranges imported under this rule would be preempted while the fruit is in foreign commerce. Fresh fruits are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2006-0133. Please send a copy of your comments to: (1) Docket No. APHIS-2006-0133, Regulatory Analysis and Development, PPD, APHIS, Station 3A-03.8, 4700 River Road Unit 118, Riverdale, MD 20737-1238, and (2) Clearance Officer, OCIO, USDA, room 404-W, 14th Street and Independence Avenue SW., Washington, DC 20250. A comment to OMB is best assured of having its full effect if OMB receives it within 30 days of publication of this proposed rule.

APHIS is proposing to amend the regulations governing the importation of citrus fruit to allow fresh Unshu oranges from the Republic of Korea to be imported into the State of Alaska under certain conditions. As a condition of entry, the oranges would have to be prepared for shipping using packinghouse procedures that include culling of damaged or diseased fruit and washing in a water bath. In addition, the oranges would have to be accompanied by a phytosanitary certificate with an additional declaration stating that the oranges were inspected and found free from Xanthomonas axonopodis pv.citri and Unaspis yanonensis. The individual cartons or boxes in which the Unshu oranges are shipped would also have to be stamped or printed with a statement restricting their importation and distribution to the State of Alaska. This action would allow for the importation of Unshu oranges from the Republic of Korea into Alaska while continuing to provide protection against the introduction of quarantine pests.

APHIS is asking Office of Management and Budget (OMB) to approve its use of this information collection activity, associated with its efforts to prevent the spread of plant pests and plant diseases into the United States.

The purpose of this notice is to solicit comments from the public (as well as affected agencies) concerning this information collection activity. APHIS needs this outside input to help accomplish the following:

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.0056932 hours per response.

Respondents: Importers of Unshu Oranges, NPPO's.

Estimated annual number of respondents: 10.

Estimated annual number of responses per respondent: 544.5.

Estimated annual number of responses: 5,445.

Estimated total annual burden on respondents: 31 hours. (Due to averaging, the total annual burden hours may not equal the product of the annual number of responses multiplied by the reporting burden per response.)

Copies of this information collection can be obtained from Mrs. Celeste Sickles, APHIS' Information Collection Coordinator, at (301) 734-7477.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 734-7477.

List of Subjects in 7 CFR 319

Coffee, Cotton, Fruits, Imports, Logs, Nursery stock, Plant diseases and pests, Quarantine, Reporting and recordkeeping requirements, Rice, Vegetables.

Accordingly, we propose to amend 7 CFR part 319 as follows:

PART 319—FOREIGN QUARANTINE NOTICES

1. The authority citation for part 319 would continue to read as follows:

Authority: 7 U.S.C. 450, 7701-7772, and 7781-7786; 21 U.S.C. 136 and 136a; 7 CFR 2.22, 2.80, and 371.3.

2. Section 319.28 would be amended as follows:

a. By redesignating paragraphs (c) through (i) as paragraphs (d) through (j), respectively.

b. By adding a new paragraph (c) to read as set forth below.

c. By revising newly redesignated paragraph (f) to read as set forth below.

§ 319.28 Notice of quarantine.

* * * * *

(c) The prohibition does not apply to Unshu oranges (Citrus reticulata Blanco var. unshu, Swingle [Citrus unshiu Marcovitch, Tanaka]), also known as Satsuma mandarin, grown in the Republic of Korea and imported under permit into the State of Alaska under the following conditions:

(1) The Unshu oranges must be prepared for shipping using packinghouse procedures that include culling damaged or diseased fruit and washing in a water bath.

(2) Each shipment of Unshu oranges must be accompanied by a phytosanitary certificate from the national plant protection organization of the Republic of Korea bearing the following additional declaration: “These oranges were inspected and are considered to be free from citrus canker (Xanthomonas axonopodis pv. citri) and arrowhead scale (Unaspis yanonensis).

(3) The individual boxes in which the oranges are shipped must be stamped or printed with the following: “These oranges may not be shipped to any State other than Alaska.”

* * * * *

(f) Importations allowed in paragraphs (b), (c), (d), and (e) of this section shall be subject to the permit and other requirements under the regulations in Subpart—Fruits and Vegetables §§ 319.56 through 319.56-8).

* * * * *

Done in Washington, DC, this 28th day of November 2006.
Kevin Shea,
Acting Administrator, Animal and Plant Health Inspection Service.

[FR Doc. E6-20422 Filed 12-1-06; 8:45 am]

BILLING CODE 3410-34-P